DEPARTMENT OF LABOR

Employment and Training Administration

[TA-W-54,267]

Lucent Technologies, Inc., Engineering Department, Alpharetta, GA; Notice of Negative Determination Regarding Application for Reconsideration

By application of June 21, 2004, a petitioner requested administrative reconsideration of the Department's negative determination regarding eligibility for workers and former workers of the subject firm to apply for Trade Adjustment Assistance (TAA). The denial notice was signed on May 28, 2004 and published in the Federal Register on June 17, 2004 (69 FR 33941).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Lucent Technologies, Inc., Engineering Department, Alpharetta, Georgia, was denied because the worker group did not produce an article within the meaning of Section 222 of the Act, and their work was not directly related to the production of an article by Lucent Technologies.

In the request for reconsideration, the petitioner stated that the subject facility provided engineering support and were directly involved in the production of integrated systems, including circuit boards and cable harnesses at the previously certified facility known as Lucent Technologies, Bell Labs Innovations, OKS Works, Oklahoma City, Oklahoma.

Upon the review of the above allegation the Department determined that Lucent Technologies, Bell Labs Innovations, OKS Works, Oklahoma City, Oklahoma, was indeed certified eligible for TAA in April of 2002 (TA-W-40,197). However, this facility ceased its production at the end of 2001, well beyond the relevant time period. The relevant period for this investigation stretches back one year from the date of the petition, or February 10, 2003. In order for workers to be considered eligible for TAA, the worker group seeking certification must work for a “firm” or subdivision that produces an article domestically, and production must have occurred within the relevant period of the investigation.

A review of the original investigation revealed that the workers of the subject facility did not support domestic production of any affiliated facilities of Lucent Technologies during the relevant time period.

Conclusion

After review of the application and investigative findings, I conclude that there has been no error or misinterpretation of the law or of the facts which would justify reconsideration of the Department of Labor's prior decision. Accordingly, the application is denied.

Signed at Washington, DC, this 12th day of July, 2004.
Linda G. Poole,
Certifying Officer, Division of Trade Adjustment Assistance.

[FR Doc. 04-16420 Filed 7-19-04; 8:45 am]

BILLING CODE 4510-30-P